ENVIRONMENTAL PROTECTION AGENCY

40 CFR Parts 52 and 97

[EPA-R06-OAR-2007-0252; FRL-8446-2]

Approval and Promulgation of Implementation Plans; Texas; Clean Air Interstate Rule Nitrogen Oxides Annual Trading Program

AGENCY: Environmental Protection Agency (EPA).

ACTION: Proposed rule.

SUMMARY: EPA is proposing to approve a revision to the Texas State Implementation Plan (SIP) submitted by the State of Texas on August 4, 2006, as the Texas Clean Air Interstate Rule (CAIR) Nitrogen Oxides (NOX) Annual Abbreviated SIP. The abbreviated SIP revision EPA is proposing to approve includes the Texas methodologies for allocation of annual NOX allowances for Phase 1 of CAIR, the control periods 2009 through 2014, and for allocating allowances from the compliance supplement pool (CSP) in the CAIR NOX annual trading program. EPA is proposing to determine that the Texas CAIR NOX Annual Abbreviated SIP revision satisfies the applicable requirements of a CAIR abbreviated SIP revision. Upon the effective date of approval of the Texas CAIR NOX Annual Abbreviated SIP revision, EPA by ministerial action will note in the Texas CAIR NOX Annual Federal Implementation Plan's (FIP) incorporated regulations that the Texas rules for annual NOX allowances under Phase 1 of CAIR and allocating allowances from the CSP apply, rather than the Federal FIP rules.

The intended effect of this action is to reduce NOX emissions from the State of Texas that are contributing to nonattainment of the PM2.5 National Ambient Air Quality Standard (NAAQS or standard) in downwind states. This action is being taken under section 110 of the Federal Clean Air Act (the Act or CAA).

DATES: Comments must be received on or before August 29, 2007.

ADDRESSES: Comments may be mailed to Mr. Jeff Robinson, Chief, Air Permits Section (6PD-R), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: If you have questions concerning today's proposal, please contact Ms. Adina Wiley (6PD-R), Air Permits Section, Environmental Protection Agency, Region 6, 1445 Ross Avenue (6PD-R), Suite 1200, Dallas, TX 75202-2733. The telephone number is (214) 665-2115. Ms. Wiley can also be reached via electronic mail at wiley.adina@epa.gov.

SUPPLEMENTARY INFORMATION: In the final rules section of this Federal Register, EPA is approving the State's SIP submittal as a direct final rule without prior proposal because the Agency views this as a noncontroversial submittal and anticipates no relevant adverse comments. A detailed rationale for the approval is set forth in the direct final rule. If no relevant adverse comments are received in response to this action, no further activity is contemplated. If EPA receives relevant adverse comments, the direct final rule will be withdrawn and all public comments received will be addressed in a subsequent final rule based on this proposed rule. EPA will not institute a second comment period. Any parties interested in commenting on this action should do so at this time. Please note that if EPA receives adverse comment on an amendment, paragraph, or section of the rule, and if that provision may be severed from the remainder of the rule, EPA may adopt as final those provisions of the rule that are not the subject of an adverse comment.

For additional information, see the direct final rule which is located in the rules section of this Federal Register.

Dated: July 16, 2007.
Richard E. Greene,
Regional Administrator, EPA Region 6.

[FR Doc. E7-14484 Filed 7-27-07; 8:45 am]

BILLING CODE 6560-50-P